DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug and Alcohol Services Information System (DASIS)—(OMB No. 0930-0106)—Revision—The DASIS consists of three related data systems: The Inventory of Substance Abuse Treatment Services (I-SATS ); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment.

The request for OMB approval will include only modest changes to the 2003 N-SSATS questionnaire, including the addition of several drugs to the pharmacotherapies list and the addition of services such as beds for dependent children of women in treatment to the “other services” list. The remaining sections of the N-SSATS questionnaire will remain unchanged except for minor modifications to wording.

Approval will also be requested for an additional component, the Mini-N-SSATS. The Mini-N-SSATS is a procedure for collecting services data from newly identified facilities between main cycles of the survey and will be used to improve the listing of treatment facilities in the on-line treatment facility Locator. The between-survey telephone calls to newly identified facilities allow facilities to be added to the Locator in a more timely manner. No significant changes are expected in the other DASIS activities.

Estimated annual burden for the DASIS activities is shown below:

Type of respondent and activity | Number of respondents | Responses per respondent | Hours per response | Total burden hours
States
TEDS Admission Data | 52 | 4 | 6 | 1,248
TEDS Discharge Data | 35 | 4 | 6 | 840
I-SATS Update ¹ | 56 | 67 | 0.08 | 300
State subtotal | 56 |  |  | 2,388
Facilities
N-SSATS Questionnaire | 17,000 | 1 | .6 | 10,200
Pretest of N-SSATS revisions | 50 | 1 | 1 | 50
Prescreening of newly-identified facilities | 2,000 | 1 | .08 | 160
Mini-N-SSATS | 700 | 1 | .4 | 280
Facility Subtotal | 19,000 |  |  | 10,690
Total | 19,056 |  |  | 13,078
¹ States forward to SAMHSA information on newly licensed/approved facilities and on changes in facility name, address, status, etc. This is done electronically by nearly all States.

Send comments to Nancy Pearce, SAMHSA Reports Clearance Officer, Room 16-105, Parklawn Building, 5600 Fishers Lane, Rockville, MD 20857. Written comments should be received within 60 days of this notice.

Dated: August 21, 2002.
Richard Kopanda,
Executive Officer, SAMHSA.

[FR Doc. 02-21729 Filed 8-26-02; 8:45 am]

BILLING CODE 4162-20-P